DEPARTMENT OF DEFENSE

Department of the Army, U.S. Army Corps of Engineers

DEPARTMENT OF THE INTERIOR

Bureau of Reclamation

Notice of Availability of the Final Environmental Impact Statement for the Lower Yellowstone Intake Diversion Dam Fish Passage Project, Dawson County, Montana

AGENCY: Department of the Army, U.S. Army Corps of Engineers, DoD; Bureau of Reclamation, Interior.

ACTION: Notice.

SUMMARY: The U.S. Army Corps of Engineers (Corps) and Reclamation, as joint lead agencies, have prepared and made available the Lower Yellowstone Intake Diversion Dam Fish Passage Project Final Environmental Impact Statement (Final EIS). The Final EIS analyzes and discloses potential effects associated with the proposed Federal action to improve passage for endangered pallid sturgeon and other native fish at Intake Diversion Dam in the lower Yellowstone River while continuing the effective and viable operation of the Lower Yellowstone Project.

DATES: The Corps and Reclamation will not issue a final decision on the proposed action until at least 30 days after the date that the Environmental Protection Agency publishes notice of availability of the Final EIS. After the Final EIS has been available for 30 days, the Corps and Reclamation may complete a Record of Decision. The Record of Decision will state the action that the Corps and Reclamation select for implementation and will discuss factors considered in the decision.

ADDRESSES: The Final EIS may be viewed on Reclamation's Web site at www.usbr.gov/gp/mtao/loweryellowstone. Send requests for copies of the Final EIS to U.S. Army Corps of Engineers Omaha District, ATTN: CENWO-PM-AA, 1616 Capitol Ave. Omaha, NE 68102; or email to cenwo-planning@usace.army.mil. See the Supplementary Information section for locations where copies of the Final EIS are available for public review.

FOR FURTHER INFORMATION CONTACT: Ms. Tiffany Vanosdall, U.S. Army Corps of Engineers, 1616 Capitol Ave. Omaha, NE 68102, or tiffany.k.vanosdall@usace.army.mil.

SUPPLEMENTARY INFORMATION: The Corps and Reclamation are issuing this notice pursuant to section 102(2)(c) of the National Environmental Policy Act of 1969 (NEPA), as amended, 42 U.S.C. 4321 et seq.; the Council on Environmental Quality's (CEQ) regulations for implementing the procedural provisions of NEPA, 43 CFR parts 1500 through 1508; the Department of the Interior's NEPA regulations, 43 CFR part 46.

Background Information

Reclamation's Lower Yellowstone Project is located in eastern Montana and western North Dakota. Intake Diversion Dam is located approximately 70 miles upstream of the confluence of the Yellowstone and Missouri rivers near Glendive, Montana. The Lower Yellowstone Project was authorized by the Secretary of the Interior on May 10, 1904. Construction of the Lower Yellowstone Project began in 1905 and included Intake Diversion Dam (also known as Yellowstone River Diversion Dam)—a wood and stone diversion dam that spans the Yellowstone River and diverts water into the Main Canal for irrigation. The Lower Yellowstone Project was authorized to provide a dependable water supply sufficient to irrigate approximately 54,000 acres of land on the benches above the west bank of the Yellowstone River. Water is also supplied to irrigate approximately 830 acres in the Intake Irrigation Project and 2,200 acres in the Savage Unit. The average annual volume of water diverted for these projects is 327,046 acre-feet.

The U.S. Fish and Wildlife Service (Service) listed the pallid sturgeon as endangered under the Endangered Species Act (ESA) in 1990. Best available science suggests Intake Diversion Dam impedes upstream migration of pallid sturgeon and their access to spawning and larval drift habitats. The lower Yellowstone River is considered by the Service to provide one of the best opportunities for recovery of pallid sturgeon.

Section 7(a)(2) requires each Federal agency to consult on any action authorized, funded, or carried out by the agency to ensure it does not jeopardize the continued existence of any endangered or threatened species. Reclamation has been in formal consultation with the Service to identify potential conservation measures to minimize adverse effects to pallid sturgeon associated with continued operation of the Lower Yellowstone Project. The Pallid Sturgeon Recovery Plan specifically identifies providing passage at Intake Diversion Dam to protect and restore pallid sturgeon populations. By providing passage at Intake Diversion Dam, approximately 165 river miles of spawning and larval drift habitat would become accessible in the Yellowstone River.

Section 3109 of the 2007 Water Resources Development Act authorizes the Corps to use funding from the Missouri River Recovery and Mitigation Program to assist Reclamation in the design and construction of Reclamation's Lower Yellowstone Project at Intake, Montana for the purpose of ecosystem restoration. Planning and construction of the Intake Project is a Reasonable and Prudent Alternative for the Corps in the 2003 Missouri River Amended Biological Opinion as amended by letter exchange in 2009, 2010, and 2013. The Reclamation Act/Newlands Act of 1902 (Pub. L. 161) authorizes Reclamation to construct and maintain the facilities associated with the Lower Yellowstone Project, which includes actions or modifications necessary to comply with Federal law such as the ESA.

Analysis in the Final EIS serves to support a decision on the selection of an alternative. Current and past project information and analyses can be accessed at: www.usbr.gov/gp/mtao/loweryellowstone.

The Corps and Reclamation are joint lead Federal agencies for the NEPA analysis process and preparation of the Final EIS. The Corps is the administrative lead for NEPA compliance activities during the preparation of the Final EIS. State, Federal, and local agencies with specialized expertise or jurisdictional responsibilities are participating as cooperating agencies. Cooperating agencies include the U.S. Fish and Wildlife Service; Western Area Power Administration; Montana Fish, Wildlife and Parks; Montana Department of Natural Resources and Conservation; and the Lower Yellowstone Irrigation Project.

The purpose of the Lower Yellowstone Intake Diversion Dam Fish Passage Project is to improve passage for the endangered pallid sturgeon while continuing the effective and viable operation of the Lower Yellowstone Project, and contribute to ecosystem restoration. The Final EIS discloses the analysis of six alternatives, including a No Action Alternative.

The No Action Alternative would continue the ongoing operations, maintenance, and rehabilitation of the Lower Yellowstone Project including diversion up to 1,374 cubic feet per second (cfs) of water through the screened headworks; rocking of the weir as needed to continue diversions during low flow periods; routine maintenance of the headworks, weir, and irrigation distribution facilities and pumps; rehabilitation of the trolley; and associated activities to comply with state and Federal law.

The Rock Ramp Alternative includes abandonment of the existing weir in place; construction of a new concrete weir and shallow sloped rock ramp to improve instream fish passage; maintenance of the new weir and rock ramp, continued diversion up to 1,374 cfs through the screened headworks; and continued operation and maintenance of the irrigation distribution facilities and supplemental pumps.

The Bypass Channel Alternative (Preferred Alternative) includes abandonment of the existing weir in place; construction of a new concrete weir; construction, operation, and maintenance of a two-mile long bypass channel for fish passage around the weir; placement of fill in the upstream portion of existing side channel for stabilization; continued diversion up to 1,374 cfs through the screened headworks; and continued operation and maintenance of the irrigation distribution facilities and supplemental pumps.

The Modified Side Channel Alternative includes operation, maintenance, and rehabilitation of the existing weir and trolley; construction, operation, and maintenance of a 4.5-mile long bypass channel created by modifying the existing high-flow channel for fish passage around the weir; continued diversion up to 1,374 cfs through the screened headworks; construction, operation, and maintenance of an access bridge spanning the high-flow bypass channel; and continued operation and maintenance of the irrigation distribution facilities and supplemental pumps.

The Multiple Pump Alternative includes the construction, operation, and maintenance of 5 screened surface pumping stations; removal of the existing weir; improved power infrastructure to increase capacity; land acquisition as necessary for power infrastructure and pump stations; continued diversion up to 1,374 cfs through the screened headworks and pumps as needed; and continued operation and maintenance of the irrigation distribution facilities and supplemental pumps.

The Multiple Pumps with Conservation Measures Alternative includes the construction, operation, and maintenance of seven pumping stations each with six Ranney Wells (total of 42 Ranney Wells); removal of the existing weir; construction, operation, and maintenance of wind turbines and infrastructure to provide power to pumping stations; land acquisition as necessary for power infrastructure and pump stations; diversion up to 608 cfs through the screened headworks or by pumping depending upon river flow; reconstruction of the Main Canal; installation of water conservation measures such as conversion of flood irrigation to sprinkler, lining canals, and piping laterals; and continued operation and maintenance of the irrigation distribution facilities and supplemental pumps.

A Notice of Availability for the Draft EIS was published in the Federal Register on June 3, 2016 (81 FR 35754). The comment period for the Draft EIS ended on July 28, 2016. Public meetings on the Draft EIS were held on Tuesday, June 28, 2016, from 5:30 to 9 p.m., in Sidney, MT; Wednesday, June 29, 2016, from 5:30 to 9 p.m., in Glendive, MT; and Thursday, June 30, 2016, from 5:30 to 9 p.m., in Billings, MT. The Final EIS contains responses to all comments received and reflects comments and any additional information received during the review period.

Copies of the Final EIS are available for public review at the following locations:

1. U.S. Army Corps of Engineers, 1616 Capitol Ave., Omaha, NE 68102.

2. Bureau of Reclamation, Great Plains Region, 2021 4th Avenue North, Billings, MT 59101.

3. Bureau of Reclamation, Montana Area Office, 2900 4th Avenue North, #303, Billings, MT 59101.

4. Sidney Public Library, 121 3rd Avenue NW., Sidney, MT 59270.

5. Glendive Public Library, 200 S. Kendrick Avenue, Glendive, MT 59330.

6. Billings Public Library, 510 N. Broadway, Billings, MT 59101.

Public Disclosure Statement

Before including your address, phone number, email address, or any other personal identifying information in any communication, you should be aware that your entire communication—including your personal identifying information—may be made publicly available at any time. While you can request in your communication to withhold your personal identifying information from public review, we cannot guarantee that we will be able to do so.

John W. Henderson,
Colonel, Corps of Engineers, District Commander.
Michael J. Ryan,
Regional Director, Great Plains Region, Bureau of Reclamation.

[FR Doc. 2016-25375 Filed 10-20-16; 8:45 am]

BILLING CODE 3720-58-P